DEPARTMENT OF TRANSPORTATION

Federal Aviation Administration

14 CFR Part 39

[Docket No. FAA-2005-22795; Directorate Identifier 2005-NM-193-AD; Amendment 39-14353; AD 2005-22-09]

RIN 2120-AA64

Airworthiness Directives; Aerospatiale Model ATR42 and ATR72 Airplanes

AGENCY: Federal Aviation Administration (FAA), Department of Transportation (DOT).

ACTION: Final rule; request for comments.

SUMMARY: The FAA is adopting a new airworthiness directive (AD) for all Aerospatiale Model ATR42 and ATR72 airplanes. This AD requires a one-time inspection to determine the part number or markings of the fuel quality indicator (FQI) and replacement of any FQI having an incorrect part number. This AD results from a report that an FQI having an incorrect part number was installed on a Model ATR72 airplane. We are issuing this AD to ensure that a correct FQI is installed. An incorrect FQI could result in fuel starvation to the engine and consequent engine shutdown during flight.

DATES: This AD becomes effective November 14, 2005.

The Director of the Federal Register approved the incorporation by reference of a certain publication listed in the AD as of November 14, 2005.

We must receive comments on this AD by December 27, 2005.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Aerospatiale, 316 Route de Bayonne, 31060 Toulouse, Cedex 03, France, for service information identified in this AD.

FOR FURTHER INFORMATION CONTACT: Thomas Rodriguez, Aerospace Engineer, International Branch, ANM-116, FAA, Transport Airplane Directorate, 1601 Lind Avenue, SW., Renton, Washington 98055-4056; telephone (425) 227-1137; fax (425) 227-1149.

SUPPLEMENTARY INFORMATION:

Discussion

The Direction Générale de l'Aviation Civile (DGAC), which is the airworthiness authority for France, notified us that an unsafe condition may exist on all Aerospatiale Model ATR42 and ATR72 airplanes. The DGAC advises that a Model ATR72 airplane ditched off the coast of Italy. An investigation revealed that a fuel quality indicator (FQI) having an incorrect part number (P/N) was installed on the airplane. An FQI for the Model ATR72 airplanes may also be inadvertently installed on a Model ATR42 airplane if operators do not adhere to the manufacturer's service information. This condition, if not corrected, could result in fuel starvation to the engine and consequent engine shutdown during flight.

Relevant Service Information

Aerospatiale has issued ATR All Operators Message (AOM) 42-72/2005/08, issue 5, dated September 7, 2005. The AOM describes procedures to determine if the part number of the FQI is consistent with the one provided within the applicable illustrated parts catalog section 28-42-80-01. The DGAC mandated the AOM and issued French emergency airworthiness directive UF-2005-160, dated September 8, 2005, to ensure the continued airworthiness of these airplanes in France.

FAA's Determination and Requirements of This AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for products of this type design that are certificated for operation in the United States.

Therefore, we are issuing this AD to ensure that a correct FQI is installed. This AD requires accomplishing the actions specified in the service information described previously, except as discussed under “Differences Among the AD, the AOM, and the French Emergency Airworthiness Directive.”

Differences Among the AD, the AOM, and the French Emergency Airworthiness Directive

Although the French emergency airworthiness directive recommends accomplishing the inspection “before next flight,” we have determined that a compliance time of 7 days for completing the required actions is warranted because most U.S. operators have already completed the inspection. In developing an appropriate compliance time for this AD, we considered the degree of urgency associated with addressing the subject unsafe condition, the average utilization of the affected fleet, and the time necessary to perform the inspections. In light of all of these factors, we find a compliance time of 7 days represents an appropriate interval of time for affected airplanes to continue to operate without compromising safety. This difference has been coordinated with the DGAC.

The French emergency airworthiness directive and the AOM specify to determine the correct P/N of the FQI. However, in addition to the inspection to determine the correct P/N, this AD allows operators to inspect the FQI for applicable markings to determine if the correct FQI is installed. The markings are illustrated in the AOM. This difference has been coordinated with the DGAC.

Although the French emergency airworthiness directive specifies reporting results to the manufacturer, this AD does not require those actions. We do not need this information from operators.

Interim Action

This AD is considered interim action. If final action is later identified, we may consider further rulemaking then.

FAA's Determination of the Effective Date

An unsafe condition exists that requires the immediate adoption of this AD; therefore, providing notice and opportunity for public comment before the AD is issued is impracticable, and good cause exists to make this AD effective in less than 30 days.

Comments Invited

This AD is a final rule that involves requirements that affect flight safety and was not preceded by notice and an opportunity for public comment; however, we invite you to submit any relevant written data, views, or arguments regarding this AD. Send your comments to an address listed in the ADDRESSES section. Include “Docket No. FAA-2005-22795; Directorate Identifier 2005-NM-193-AD” at the beginning of your comments. We specifically invite comments on the overall regulatory, economic, environmental, and energy aspects of the AD that might suggest a need to modify it.

We will post all comments we receive, without change, to http://dms.dot.gov, including any personal information you provide. We will also post a report summarizing each substantive verbal contact with FAA personnel concerning this AD. Using the search function of that web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-22-09 Aerospatiale: Amendment 39-14353. Docket No. FAA-2005-22795; Directorate Identifier 2005-NM-193-AD.

Effective Date

(a) This AD becomes effective November 14, 2005.

Affected ADs

(b) None.

Applicability

(c) This AD applies to all Aerospatiale Model ATR42-200, -300, -320, and -500 airplanes, and Model ATR72-101, -201, -102, -202, -211, -212, and -212A airplanes, certificated in any category.

Unsafe Condition

(d) This AD results from a report that a fuel quality indicator (FQI) having an incorrect part number was installed on a Model ATR72 airplane. We are issuing this AD to ensure that a correct FQI is installed. An incorrect FQI could result in fuel starvation to the engine and consequent engine shutdown during flight.

Compliance

(e) You are responsible for having the actions required by this AD performed within the compliance times specified, unless the actions have already been done.

Inspection and Corrective Action

(f) Within 7 days after the effective date of this AD, do the inspection specified in paragraph (f)(1) or (f)(2) of this AD.

(1) Perform an inspection to determine the part number (P/N) of the fuel quantity indicator (FQI) 3QT, in accordance with ATR All Operators Message (AOM) 42-72/2005/08, issue 5, dated September 7, 2005. Instead of the inspection, a review of the airplane maintenance records is acceptable if the P/N of the FQI can be positively determined from that review.

(2) Inspect the faceplate of the FQI to verify that it has the correct markings as specified in paragraphs (f)(2)(i) and (f)(2)(ii), as applicable.

(i) For Model ATR42-200, -300, -320, and -500 airplanes: The FQI has the marking of 4960 lbs on the faceplate as illustrated in ATR AOM 42-72/2005/08, issue 5, dated September 7, 2005.

(ii) For Model ATR72-101, -201, -102, -202, -211, -212, and -212A airplanes: The FQI has the marking of 5500 lbs on the faceplate as illustrated in the AOM 42-72/2005/08, issue 5, dated September 7, 2005.

(g) If it can be positively determined, during the inspection required by paragraph (f) of this AD, that the FQI has the correct part number or marking, no further action is required by this AD.

(h) If it is determined, during the inspection required by paragraph (f) of this AD, that the FQI does not have the correct part number or marking, before further flight, install the FQI having the correct part number as specified in ATR AOM 42-72/2005/08, issue 5, dated September 7, 2005.

Alternative Methods of Compliance (AMOCs)

(i)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(j) French emergency airworthiness directive UF-2005-160, dated September 8, 2005, also addresses the subject of this AD.

Material Incorporated by Reference

(k) You must use ATR All Operators Message (AOM) 42-72/2005/08, issue 5, dated September 7, 2005, to perform the actions that are required by this AD, unless the AD specifies otherwise. The Director of the Federal Register approved the incorporation by reference of this document in accordance with 5 U.S.C. 552(a) and 1 CFR part 51. Contact Aerospatiale, 316 Route de Bayonne, 31060 Toulouse, Cedex 03, France, for a copy of this service information. You may review copies at the Docket Management Facility, U.S. Department of Transportation, 400 Seventh Street SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on October 18, 2005.
Kalene C. Yanamura,
Acting Manager, Transport Airplane Directorate, Aircraft Certification Service.

[FR Doc. 05-21338 Filed 10-27-05; 8:45 am]

BILLING CODE 4910-13-P